DEPARTMENT OF ENERGY

Federal Energy Regulatory Commission

[Docket No. CP00-469-000]

Tennessee Gas Pipeline Company; Notice of Request For Blanket Authorization

September 29, 2000.

Take notice that on September 21, 2000, Tennessee Gas Pipeline Company (Tennessee), a Delaware corporation, P.O. Box 2511, Houston, Texas 77252, filed in CP00-469-000 a request pursuant to Sections 157.205 and 157.208(f)(2) of the Commission's (Commission) Regulations under the Natural Gas Act, as amended, (18 CFR 157.205 and 157.208(f)(2)) and Tennessee's blanket certificate authorization granted in Docket No. CP82-413-000, 20 FERC ¶ 62,409 (1982), for authorization to increase the maximum allowable operating pressure (MAOP) through an uprate of Tennessee's Mariposa-Humble and Gyp-Hill laterals located in Brooks County, Texas, all as more fully set forth in the request which is on file with the Commission and open to public inspection. The application may be viewed on the web at http://www.ferc.fed.us/online/rims.htm. Call (202) 208-2222 for assistance.

Tennessee states that it proposes to increase the MAOPs on Line No. 404A-100 (Mariposa-Humble Line) from 794 to 908 psig and from 795 to 947 psig on Line No. 404B-100 (Gyp-Hill Line) in order to facilitate reliable receipt of natural gas from producers on these laterals. Tennessee indicates that both pipelines are receipt side laterals that connect to Tennessee's parallel mainlines known as Line Nos. 400-1 and 400-2. Tennessee then indicates that the operating pressure of Tennessee's mainline facilities often exceeds the existing MAOP of the Mariposa-Humble and Gyp-hill lines and for this reason producers can deliver gas in the Tennessee's system only when the operating pressure of the mainlines are lower than the pressure within the supply laterals. Tennessee states that the operating pressure on Tennessee's Line No. 400-1 can range as high as 903 psig and 860 psig on Line No. 400-2. Thus, Tennessee states that it has proposed these uprates so it can consistently and reliably receive natural gas from the affected producers on these lateral lines. Tennessee indicates that the total cost of the uprates is estimated to be from $5,000 to $15,000.

Tennessee states that Thomas G. Joyce, Certificates Manager, P.O. Box 2511, Houston, Texas 77252 at (713) 420-2459 can be contacted for any further questions on this application.

Any person or the Commission's Staff may, within 45 days after issuance of the instant notice by the Commission, file pursuant to Rule 214 of the Commission's Procedural Rules (18 CFR 385.214) a motion to intervene or notice of intervention and pursuant to Section 157.205 of the regulations under the Natural Gas Act (18 CFR 157.205), a protest to the request. If no protest is filed within the time allowed therefore, the proposed activity shall be deemed to be authorized effective the day after the time allowed for filing a protest. If a protest is filed and not withdrawn within 30 days after the time allowed for filing a protest, the instant request shall be treated as an application for authorization pursuant to Section 7 of the Natural Gas Act.

Linwood A. Watson, Jr.,
Acting Secretary.

[FR Doc. 00-25508 Filed 10-4-00; 8:45 am]

BILLING CODE 6717-01-M